DEPARTMENT OF THE INTERIOR

Bureau of Land Management

[LLORW00000.L16100000.DP0000.LXSSH0930000.15XL1109AF.HAG 15-0169]

Notice of Public Meeting

AGENCY: Bureau of Land Management, Interior.

ACTION: Notice of public meeting.

SUMMARY: In accordance with the Federal Land Policy and Management Act and the Federal Advisory Committee Act, the Bureau of Land Management's (BLM) San Juan Islands National Monument Advisory Committee (MAC) will meet as indicated below.

DATES: The MAC will meet on Wednesday, July 8, 2015, from 10:30 a.m.-5:30 p.m. at the Grace Episcopal Church, 70 Sunrise Rd., Lopez, WA 98261. There will be two public comment periods: 10:45-11:15 and 4:45-5:30. This meeting will focus on recreation, visual resource management, special designations such as Areas of Environmental Concern and lands with wilderness characteristics, and trails and travel management. The BLM resource lead will be present to share the breadth of considerations and opportunities in the generation of alternatives for separate areas, or zones and a discussion of public engagement to assist in defining reccommended recreation resources. The committee will also review legal constraints and definitions to the formulation of alternatives.

FOR FURTHER INFORMATION CONTACT: Marcia deChadenèdes, San Juan Islands National Monument Manager, P.O. Box 3, 37 Washburn Ave., Lopez Island, Washington 98261, (360) 468-3051, or mdechade@blm.gov. Persons who use a telecommunications device for the deaf (TDD) may call the Federal Information Relay Service (FIRS) at 1 (800) 877-8339 to contact the above individual during normal business hours. The FIRS is available 24 hours a day, 7 days a week, to leave a message or question with the above individual. You will receive a reply during normal business hours.

SUPPLEMENTARY INFORMATION: The twelve member San Juan Islands MAC was chartered to provide information and advice regarding the development of the San Juan Islands National Monument's Resource Management Plan. Members represent an array of stakeholder interests in the land and resources from within the local area and statewide. Planned agenda items include training on the Federal Advisory Committee Act, advisory committee procedures, the resource management plan process, MAC goal setting, and a collaborative project on public outreach. At each meeting, members of the public will have the opportunity to make comments to the MAC during a public comment period. All advisory committee meetings are open to the public. Persons wishing to make comments during the public comment period should register in person with the BLM preceding that meeting day's comment period, at the meeting location. Depending on the number of persons wishing to comment, the length of comments may be limited. The public may send written comments to the MAC at San Juan Islands National Monument, Attn. MAC, P.O. Box 3, 37 Washburn Ave., Lopez Island, Washington 98261. The BLM appreciates all comments.

Jeffrey A. Rose,
Spokane District Manager.

[FR Doc. 2015-15483 Filed 6-23-15; 8:45 am]

BILLING CODE 4310-33-P